DEPARTMENT OF HEALTH AND HUMAN SERVICES

Health Resources and Services Administration

Agency Information Collection Activities: Submission to OMB for Review and Approval; Public Comment Request; the Teaching Health Center Graduate Medical Education Program Eligible Resident or Fellow Full-Time Equivalent Chart, OMB No. 0915-0367—Extension

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than October 2, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: The Teaching Health Center Graduate Medical Education Program Eligible Resident or Fellow Full-Time Equivalent Chart, OMB No. 0915-0367—Extension

Abstract: The Teaching Health Center Graduate Medical Education (THCGME) Program, Section 340H of the Public Health Service Act, was established by Section 5508 of Public Law 111-148. The Consolidated Appropriations Act, 2021 (Pub. L. 116-260) and the American Rescue Plan Act of 2021 (Pub. L. 117-2) provided continued funding for the THCGME Program. The THCGME Program awards payment for both direct and indirect expenses to support training for primary care residents in community-based ambulatory patient care settings. The THCGME Program Eligible Resident or Fellow full-time equivalent (FTE) Chart, published in the THCGME Notice of Funding Opportunity (NOFO), is a means for determining the number of eligible resident or fellow FTEs in an applicant's primary care residency program. The FTE Chart will continue to collect the number of resident or fellow FTEs from previous academic years and capture the number of resident or fellow FTEs requested within the NOFO application. There are no changes to the FTE chart itself.

A 60-day notice published in the Federal Register on May 28, 2025, vol. 90, No. 101; pp. 22495-96. HRSA received two public comments during the 60-day public comment period. Below is a summary of key themes raised in the comments and HRSA's response:

• Commenters expressed strong support of HRSA's use of the THCGME Eligible Resident-Fellow FTE Chart to collect data from Teaching Health Center (THC) applicants. They state that this data collection is crucial for ensuring accurate information needed on projected growth of community health center-based residency programs, enabling informed decisions about funding needs.

• Commenters encouraged HRSA to consider use of previous applicants' FTE charts for ongoing data collection, to improve projections for future growth.

• Commenters leveraged the Federal Register Notice comment period as an opportunity to express support for program expansion.

HRSA directly responded to each stakeholder who submitted comments, acknowledging the considerations raised. HRSA recognizes and appreciates the amount of work that applicants put into completing the THCGME Eligible Resident-Fellow FTE chart. The average burden hours provided is based on our grant recipients' responses. For items outside the scope of this notice, such as program expansion and other program policies, HRSA will take those comments into consideration for future policy development.

Need and Proposed Use of the Information: The THCGME Program Eligible Resident or Fellow FTE Chart requires applicants to provide (a) data related to the size and/or growth of the residency program over previous academic years, (b) the number of residents enrolled in the program during the baseline academic year, and (c) a projection of the program's proposed expansion over the next 5 academic years. It is imperative that applicants complete this chart to quantify the total supported residents. THCGME funding is used to support expanded numbers of residents in existing residency programs, to establish new residency training programs, or to maintain filled positions at existing residency training programs. Utilization of a chart to gather this important information has decreased the number of errors in the eligibility review process, resulting in a more accurate review and funding process. This ICR comports with the regulatory requirement imposed by 45 CFR 75.206(a), “[s]tandard application requirements, including forms for applying for [Department of Health and Human Services] financial assistance, and state plans.”

Likely Respondents: Teaching Health Centers applying for THCGME funding through a THCGME NOFO process, which may include new applicants and existing awardees.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
THCGME Program Eligible Resident or Fellow FTE Chart | 90 | 1 | 90 | 1.25 | 112.50
Total | 90 |  | 90 |  | 112.50

Maria G. Button,
Director, Executive Secretariat.

[FR Doc. 2025-16732 Filed 8-29-25; 8:45 am]

BILLING CODE 4165-15-P